DEPARTMENT OF DEFENSE

Department of the Army; Corps of Engineers

Intent To Prepare a Draft Environmental Impact Statement for the Environmental Restoration of Areas Adjacent to the Arlington and Garrows Bend Channels, Mobile Harbor Federal Navigation Project in Mobile County, Alabama.

AGENCY: U.S. Army Corps of Engineers, DOD.

ACTION: Notice of intent.

SUMMARY: The Mobile District, U.S. Army Corps of Engineers (Corps), intends to prepare a Draft Environmental Impact Statement (DEIS) to address the potential impacts associated with the removal, transportation, disposal, and/or remediation of contaminated sediments in and adjacent to the Arlington and the Garrows Bend Channels, Mobile Harbor Federal navigation project in Mobile County, Alabama. The DEIS will be used as a basis for evaluating various alternative plans to implement the authorized clean-up action and to ensure compliance with the National Environmental Policy Act (NEPA).

FOR FURTHER INFORMATION CONTACT: Questions about the proposed action and the DEIS should be addressed to Dr. Susan Ivester Rees, Coastal Environment Team, phone (251) 694-4141, or e-mail at susan.i.rees@sam.usace.army.mil, Mobile district, U.S. Army Corps of Engineers, P.O. Box 2288, Mobile, AL 36628-0001.

SUPPLEMENTARY INFORMATION: 1. A number of hydrological modifications made in the late 1920s have defined a rigid regime at the head of Mobile Bay, which significantly impacts the ecological health of the bay ecosystem. Human intervention at the mouth of the Mobile River over the last 60 to 70 years resulted in the formation of the Garrows Bend Basin. This basin has been the recipient of both urban and industrial runoff since the late 1930s. In the 1950s, Garrows Bend became a slack water tidal basin as a result of the causeway construction across the northern end of the basin linking McDuffie Island with the mainland. Major pollutant loading continued until the 1970s when a principle source was contained by the installation of an improved sewage treatment system; however, historical pollutant residuals and captured urban storm water runoff continue to flow into the basin. This resulted in water bottoms that, although not contaminated by specific concentrated pollutants, exhibit a condition that is not environmentally acceptable. To ensure adequate evaluation of cumulative impacts resulting from the extent of contaminated sediments and the clean-up effort, especially in those areas considered to be sensitive from an environmental standpoint, the Mobile District has decided to undertake a comprehensive environmental impact analysis of options to either remove, transport, dispose, and/or remediate contaminated sediments in and adjacent to the Arlington and Garrows Bend Channels. The extent of geographical coverage for this environmental analysis will include the areas west of the Mobile Ship Channel in the Garrows Bend Basin. The analysis process will: evaluate the vertical and horizontal extent of contaminated sediments in the region identified in the DEIS; identify various alternatives to either remove, transport, dispose or remediate contaminated sediments in the area; and evaluate the impact of likely environmental enhancement.

2. Alternative scenarios which may be considered include the “No action” alternative; removal of contaminated sediments with disposal at various locations; capping of the contaminated materials in place; and remediation of contaminated sediments by either chemical or biological methods.

3. Scoping:

a. The Corps invites full public participation to promote open communication on the issues surrounding the proposal. All Federal, State, tribal governments and local agencies, and other persons or organizations that have an interest are urged to participate in the NEPA scoping process. A public meeting will be held to help identify significant issues and alternative restoration methods and to receive public input and comment.

b. The DEIS will analyze the potential social, economic, and environmental impacts to the local area resulting from proposed future environmental restoration efforts. Specifically, the following major issues will be analyzed in depth in the DEIS: hydrologic and hydraulic regimes, threatened and endangered species, essential fish habitat and other marine habitat, air quality, cultural resources, storm water runoff, secondary and cumulative impacts, socioeconomic impacts, environmental justice (effect on minorities and low-income groups), and protection of children (Executive Order 13045).

c. The Corps will serve as the lead Federal agency in the preparation of the DEIS. It is anticipated that the following agencies will be invited and will accept cooperating agency status for the preparation of the DEIS: U.S. Environmental Protection Agency, U.S. Department of the Interior—Fish and Wildlife Service, U.S. Department of Commerce—National Marine Fisheries Service, Alabama Department of Environmental Management, Alabama Department of Conservation and Natural Resources, Alabama State Port Authority, Alabama State Historic Preservation Officer, City of Mobile, and Mobile Bay National Estuary Program.

4. The first scoping meeting will be held in conjunction with a public scooping meeting concerning the initiation of an impact analysis associated with the Alabama State Port Authority Department of the Army permit request for port related development in the Choctaw—Garrows Bend area. This meeting will be held in Federal 2002 in the local area. Actual time and place for the meeting and subsequent meetings or workshops will be announced by the Mobile District by issuance of a Public Notice and/or notices in the local media.

5. It is anticipated that the DEIS will be made available for public review in October 2002.

Luz D. Ortiz,
Army Federal Register Liaison Officer.

[FR Doc. 02-1649 Filed 1-22-02; 8:45 am]

BILLING CODE 3710-CR-M